ENVIRONMENTAL PROTECTION AGENCY

[FRL-6536-7]

Agency Information Collection Activities: Submission for OMB Review; Comment Request; Trade Secret Claims for Community Right-to-Know and Emergency Planning (EPCRA Section 322)

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Trade Secret Claims for Community Right-to-Know and Emergency Planning (EPCRA section 322), OMB Control Number 2050-0078, expiring May 31, 2000. The ICR describes the nature of the information collection and its expected burden and cost; where appropriate, it includes the actual data collection instrument.

DATES: Comments must be submitted on or before March 16, 2000.

FOR FURTHER INFORMATION CONTACT: For a copy of the ICR contact Sandy Farmer at EPA by phone at (202) 260-2740, by email at farmer.sandy@epamail.epa.gov, or download off the Internet at http://www.epa.gov/icr and refer to EPA ICR No. 1428.05. For technical questions about the ICR contact Sicy Jacob at (202) 260-7249.

SUPPLEMENTARY INFORMATION:

Title: Trade Secret Claims for Community Right-to-Know and Emergency Planning (EPCRA Section 322), EPA ICR Number 1428.05, expiring May 31, 2000. This is a request for extension of a currently approved collection.

Abstract: This information collection request pertains to trade secrecy claims submitted under Section 322 of the Emergency Planning and Community Right-to-Know Act of 1986 (EPCRA). EPCRA contains provisions requiring facilities to report to State and local authorities, and EPA, the presence and release of extremely hazardous substances (described in sections 302 and 304), inventory of hazardous chemicals (described in sections 311 and 312) and manufacture, process and use of toxic chemicals (described in section 313). Section 322 of EPCRA allows a facility to withhold the specific chemical identity from these EPCRA reports if the facility asserts a claim of trade secrecy for that chemical identity. The provision establishes the requirements and procedures that facilities must follow to request trade secrecy treatment of chemical identities, as well as the procedures for submitting public petitions to the Agency for review of the “sufficiency” of trade secret claims.

Trade secrecy protection is provided for specific chemical identities contained in reports submitted under each of the following EPCRA sections: (1) 303(d)(2)—Facility notification of changes that have or are about to occur, (2) 303(d)(3)—Local Emergency Planning Committee (LEPC) requests for facility information, develop or implement emergency plans, (3) 311—Material Safety Data Sheets (MSDSs) submitted by facilities, or lists of those chemicals submitted in place of the MSDSs, (4) 312—Tier II emergency and hazardous chemical inventory forms, and (5) 313—Toxic chemical release inventory forms.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on September 16, 1999 (64 FR 50280); no comments were received.

Burden Statement: The annual public reporting and recordkeeping burden for this collection of information is estimated to average 9.9 hours per claim. The total annual burden for the respondents is 3,121 hours at a cost of $190,280. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Chemical Manufacturers.

Estimated Number of Respondents: 320 annually.

Frequency of Response: Annually.

Estimated Total Annual Hour Burden: 3,121 hours.

Estimated Total Annualized Capital, Operating/Maintenance Cost Burden: $0.

Send comments on the Agency's need for this information, the accuracy of the provided burden estimates, and any suggested methods for minimizing respondent burden, including through the use of automated collection techniques to the following addresses. Please refer to EPA ICR No. 1428.05 and OMB Control No. 2050-0078 in any correspondence.

Ms. Sandy Farmer, U.S. Environmental Protection Agency, Office of Environmental Information, Collection Strategies Division (2822), 1200 Pennsylvania Avenue NW, Washington, DC 20460; and

Office of Information and Regulatory Affairs, Office of Management and Budget, Attention: Desk Officer for EPA, 725 17th Street, NW, Washington, DC 20503.

Dated: February 8, 2000.
Oscar Morales,
Director, Collection Strategies Division.

[FR Doc. 00-3485 Filed 2-14-00; 8:45 am]

BILLING CODE 6560-50-P